DEPARTMENT OF ENERGY

Federal Energy Regulatory Commission

[Docket No. EC05-117-000, et al.]

Dartmouth Power Associates Limited Partnership, et al.; Electric Rate and Corporate Filings

August 9, 2005.

The following filings have been made with the Commission. The filings are listed in ascending order within each docket classification.

1. Dartmouth Power Associates Limited Partnership

[Docket No. EC05-117-000]

Take notice that on August 2, 2005, Dartmouth Power Associates Limited Partnership (Dartmouth Power) submitted an application requesting authorization under section 203 of the Federal Power Act of a disposition of jurisdictional facilities that would result from the proposed indirect transfer of 100 percent of the interests in Dartmouth Power to Morris Energy Group, LLC, or its wholly-owned subsidiary. Dartmouth Power states that it is a public utility within the meaning of section 201(e) of the Federal Power Act.

Comment Date: 5 p.m. Eastern Time on August 23, 2005.

2. Ameren Services Company on behalf of Ameren Energy Development Company, Ameren Energy Marketing Company, AmerenEnergy Medina Valley Cogen, L.L.C., and Electric Energy Inc.

[Docket No. EC05-118-000]

Take notice that on August 5, 2005, Ameren Services Company (Ameren Services), on behalf of Ameren Energy Development Company (AED), Ameren Energy Marketing Company (AEM), AmerenEnergy Medina Valley Cogen (No. 4), L.L.C. (Medina Valley), and Electric Energy, Inc. (EEI) (collectively, AED, AEM, Medina Valley and EEI are also referred to as Applicants), submitted an application pursuant to section 203 of the Federal Power Act, and Part 33 of the Commission regulations, 18 CFR Part 33, requesting all Commission authorizations and approvals necessary for AED to receive as a contribution from Ameren Energy Resources Company (AER) all of AER's stock ownership in AEM, and EEI, and through its acquisition of AmerenEnergy Medina Valley Cogen, (No. 4) L.L.C. (Medina No. 4), indirect ownership of Medina Valley.

Ameren Services states that this filing have been served on all affected state commissions.

Comment Date: 5 p.m. Eastern Time on August 26, 2005.

3. Boston Generating, LLC, Mystic I, LLC, Mystic Development, LLC, Fore River Development, LLC, Tyr Energy, LLC, K Road BG Management, EBG Holdings, LLC and K Road BG LLC

[Docket No. EC05-119-000]

On August 5, 2005, Boston Generating, LLC (Boston Generating) and its three wholly-owned subsidiaries, Mystic I, LLC, Mystic Development, LLC, and Fore River Development, LLC (Project Companies), Tyr Energy, LLC (Tyr), K Road BG Management LLC (K Road BG Management), EBG Holdings, LLC (EBG) and K Road BG LLC (“K Road BG”) (collectively, Applicants), submitted a request for authorization pursuant to Section 203 of the Federal Power Act for a change in control of Boston Generating's Project Companies by the replacement of the current asset manager, Tyr, with a new asset manager, K Road BG Management; to the extent required, authorization for the indirect disposition of jurisdictional assets as a result of certain proposed changes in the ownership, management and scope of operations of EBG; blanket authorization for certain categories of future transfers or changes of ownership or control of membership interests in EBG.

Comment Date: 5 p.m. Eastern Time on August 26, 2005.

Standard Paragraph

Any person desiring to intervene or to protest in any of the above proceedings must file in accordance with Rules 211 and 214 of the Commission's Rules of Practice and Procedure (19 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protests to the Federal Energy Regulatory Commission, 888 First Street, NE., Washington, DC 20426.

The filings in the above proceedings are accessible in the Commission's eLibrary system by clicking on the appropriate link in the above list. They are also available to review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TYY, call (202) 502-8659.

Linda Mitry,
Deputy Secretary.

[FR Doc. E5-4422 Filed 8-15-05; 8:45 am]

BILLING CODE 6717-01-P